DEPARTMENT OF STATE

[Public Notice: 8075]

60-Day Notice of Proposed Information Collection: INTERNationalConnections

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 28, 2012.

ADDRESSES: You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: Friedlandrc@state.gov.

• Mail: U.S. Department of State, 2401 E Street NW., SA1-518H, Washington, DC 20520. Attn.: Rachel Friedland.

You must include the DS form number (if applicable), information collection title, and the OMB control number in any correspondence.

FOR FURTHER INFORMATION CONTACT: Direct requests for additional information regarding the collection listed in this notice, including requests for copies of the proposed collection instrument and supporting documents, to Rachel C. Friedland, 2401 E Street NW., Washington, DC 20520, who may be reached on (202) 261-8055 or at Friedlandrc@state.gov.

SUPPLEMENTARY INFORMATION: • Title of Information Collection: INTERNationalConnections.

• OMB Control Number: 1405-0190.

• Type of Request: Revision of a Currently Approved Collection.

• Originating Office: Bureau of Human Resources, Office of Recruitment, Examination and Employment (HR/REE).

• Form Number: DS-5103.

• Respondents: Alumni of the U.S. Department of State's Student Programs, including internships, Pickerings, Rangels, Stay-in-Schools, Co-ops, etc.

• Estimated Number of Respondents: 1,000.

• Estimated Number of Responses: 1,000.

• Average Time Per Response: 30 minutes.

• Total Estimated Burden Time: 500.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Department's student internship programs provide a key source of potential candidates who have an interest in, and are qualified, to become future Department employees.

The legal authorities pertaining to this collection include: 22 U.S.C. 2651a., 22 U.S.C. 3901, 5 U.S.C. 3111, and 5 CFR part 362, subpart B.

HR/REE wants to strengthen and maintain its connections to this group, fostering and mentoring a pool of candidates from which to obtain successful recruits.

In June 2008, HR/REE surveyed over 3,500 former interns who served from 2005 through spring 2008. The intern alumni were queried as to their motivation in seeking an internship, whether or not they had pursued a career with either the Foreign Service or Civil Service, and what their recommendations would be for the best ways for the Department to maintain contact after the conclusion of their internships. Intern alumni endorse continued contact with Department representatives mainly through electronic means and Web site reminders of career opportunities.

In an effort to address these findings and provide viable solutions to improving student engagement prior to, during and following an internship, the Department developed an intern engagement strategy that will ultimately result in a measurable conversion of interns into Department hires for the Foreign or Civil Service. The foundation of this strategy is INTERNational Connections, a web-based career networking site for current, former and future interns that collects pertinent information about them, their experiences and their career goals.

Methodology: Users will register online at careers.state.gov/internconnect and create a profile that includes the aforementioned information.

Dated: October 22, 2012.
William Schaal, Jr.,
Executive Director, Bureau of Human Resources, U.S. Department of State.

[FR Doc. 2012-26552 Filed 10-26-12; 8:45 am]

BILLING CODE 4710-15-P